NATIONAL SCIENCE FOUNDATION

Biological Sciences Advisory Committee; Notice of Meeting

In accordance with the Federal Advisory Committee Act (Pub. L., 92-463, as amended), the National Science Foundation announces the following meeting:

Name: Biological Sciences Advisory Committee (#1110).

Date and Time: April 26, 2011; 1 p.m. to 3 p.m.

Place: This meeting will be held by teleconference at the National Science Foundation, 1401 Wilson Blvd., Room 688, Arlington, VA 22230.

All visitors must contact the Directorate of Biological Sciences [call 703-292-8400 or send an email message to erchiang@nsf.gov] at least 24 hours prior to the teleconference to arrange for a visitor's badge. All visitors must report to the NSF visitor desk located in the lobby at the 9th and N. Stuart Streets entrance on the day of the teleconference to receive a visitor's badge.

Type of Meeting: Open.

For Further Information Contact: Charles Liarakos, National Science Foundation, Room 605, 4201 Wilson Boulevard, Arlington, VA 22230 Tel No.: (703) 292-8400.

Purpose of Meeting: The Advisory Committee for the Directorate for Biological Sciences provides advice, recommendations, and oversight concerning major program emphases, directions, and goals for the research-related activities of the divisions that make up of the Directorate for Biological Sciences.

Agenda: Items on the agenda include a briefing of the BIO FY13 budget request, and discussions on data management and broadening participation issues in biological sciences.

Dated: March 27, 2012.
Susanne Bolton,
Committee Management Officer.

[FR Doc. 2012-7761 Filed 3-30-12; 8:45 am]

BILLING CODE 7555-01-P